DEPARTMENT OF TRANSPORTATION

Research and Innovative Technology Administration

Agency Information Collection; Activity Under OMB Review; Collection of Safety Culture Data for Program Evaluation

AGENCY: Research & Innovative Technology Administration (RITA), Bureau of Transportation Statistics (BTS), DOT.

ACTION: Notice.

SUMMARY: In compliance with the Paperwork Reduction Act of 1995 (44 U.S.C. 3501 et seq.), this notice announces that the Information Collection Request (ICR) described below is being forwarded to the Office of Management and Budget (OMB) for approval for a new information collection related to the evaluation of a demonstration/research program on voluntary reporting of close calls and near misses in the rail environment. The ICR describes the nature of the information collection and its expected burden. The Federal Register notice with a 60-day comment period soliciting comments on the following collection of information was published on March 12, 2010 (75 FR 11988) and the comment period ended on May 11, 2010. The 60-day notice produced no comments.

DATES: Written comments should be submitted by August 23, 2010.

FOR FURTHER INFORMATION CONTACT: Ms. Demetra V. Collia, E-34, Room 302, Bureau of Transportation Statistics, Research and Innovative Technology Administration, 1200 New Jersey Ave., SE., Washington, DC 20590; (202) 366-1610; Fax (202) 366-3676; e-mail Demetra.Collia@dot.gov.

SUPPLEMENTARY INFORMATION: Title: Collection of Safety Culture Data for Program Evaluation.

Type of Request: Approval of a new information collection.

OMB Control Number: New.

Affected Public: Employees in the railroad industry.

Number of Respondents: 3,600 (to be surveyed in three years).

Number of Responses: 3,600 (to be collected in three years).

Average Annual Burden: 600 hours (based on average time of 30 minutes to complete a survey and an average annual sample of 1,200 survey responses).

Abstract: Collecting data on the nation's transportation system is an important component of BTS' responsibility to the transportation community and is authorized in BTS statutory authority (49 U.S.C. 111(c)(1) and (2)) and 49 U.S.C. 111(c)(5) (j). Further, BTS and the Federal Railroad Administration (FRA) share a common interest in promoting rail safety based on better data. In recognition of the need for new approaches to improving safety, the FRA is conducting a research program called the Confidential Close Call Reporting System (C³RS) designed to identify safety issues and promote corrective actions based on voluntary reports of close calls submitted to BTS.

While C³RS is being implemented with the participation of the FRA, railroad labor, and railroad management, there are legitimate questions about whether it is being implemented in the most effective way, and whether it will have its intended effect. Further, even if C³RS is successful, it will be necessary to know if it is successful enough to implement on an industry-wide scale. To address these important questions, the FRA has developed an evaluation model which includes a formative evaluation component to guide program development, a summative evaluation component to assess impact, and a sustainability evaluation component to determine how C³RS can continue after the test period is over. The evaluation model requires data derived from several sources including data collected through the proposed survey which is to be administered three times during the timeframe of the C³RS project (i.e., baseline, mid-term and end-of-project). Baseline survey data were collected under a separate OMB control number (2139-0011). BTS is seeking a separate OMB approval for the collection of the remaining safety culture surveys because of changes to the data collection instruments and legal authority for this data collection. BTS will no longer invoke the Confidential Information and Statistical Efficiency Act of 2002 (CIPSEA) to protect the confidentiality of these data, rather the agency will conduct the survey data collection under its own statute (49 U.S.C. 111(i)).

Employees of three railroad sites (pilot sites) will be asked to fill out a questionnaire which will be made available to them at their workplace and mail back to BTS. Data will be collected from the entire population of affected workers (estimated number of participating employees: 3,600 or less). The survey will ask respondents to provide information on: (a) Beliefs about rail safety; (b) issues and personal concerns related to implementation of safety programs in their work environment; (c) knowledge and views on voluntary reporting of unsafe events; and (d) opinions and observations about the operation of C³RS at their work site. It is estimated that the survey will take no more than 30 minutes to complete for a maximum total burden of 1,800 hours (3,600 respondents*30 minutes/60 = 1,800 hours). The survey will be administered at three pilot sites within three to four years resulting in an average annual burden of 600 hours (1,800/3).

ADDRESSES: The agency seeks public comments on its proposed information collection. Comments should address whether the information will have practical utility; the accuracy of the agency's estimate of the burden of the proposed information collection; ways to enhance the quality, utility and clarity of the information to be collected; and ways to minimize the burden of the collection of information on respondents, including the use of automated collection techniques or other forms of information technology. Send comments to the Office of Information and Regulatory Affairs, Office of Management and Budget, 725-17th Street, NW., Washington, DC 20503, Attention: RITA/BTS Desk Officer.

Issued in Washington, DC, on this 16th day of July 2010.
Steven D. Dillingham,
Director, Bureau of Transportation Statistics, Research and Innovative Technology Administration.

[FR Doc. 2010-17922 Filed 7-21-10; 8:45 am]

BILLING CODE 4910-HY-P